DEPARTMENT OF COMMERCE

International Trade Administration

[Application No. 87-8A001]

Export Trade Certificate of Review

ACTION: Notice of Issuance (#87-8A001) of an Amended Export Trade Certificate of Review Issued to Independent Film and Television Alliance (formerly “American Film Marketing Association”).

SUMMARY: The U.S. Department of Commerce issued an amended Export Trade Certificate of Review to Independent Film and Television Alliance (“IFTA”) on May 8, 2009. The Certificate has been amended seven times. The previous amendment was issued to IFTA on August 6, 2003, and published in the Federal Register August 13, 2003 (68 FR 48342). The original Export Trade Certificate of Review No. 87-00001 was issued to IFTA on April 10, 1987, and published in the Federal Register on April 17, 1987 (52 FR 12578).

FOR FURTHER INFORMATION CONTACT: Jeffrey Anspacher, Acting Director Office of Competition and Economic Analysis, International Trade Administration, by telephone at (202) 482-5131 (this is not a toll-free number) or by e-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR part 325 (2008).

Export Trading Company Affairs is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate:

IFTA's Export Trade Certificate of Review has been amended to:

1. Change the previous name of the Certificate holder from “American Film Marketing Association” to the current name, “Independent Film and Television Alliance”;

2. Add the following companies as new Members of the Certificate within the meaning of section 325.2(1) of the Regulations (15 CFR 325.(1)):

111 Pictures Ltd, London, United Kingdom

2929 International, LLC, Beverly Hills, CA

Action Concept Film und Stuntproduktion GmbH, Huerth/Cologne, Germany

Alpine Pictures, Inc., Burbank, CA

American Cinema International, Van Nuys, CA

American World Pictures, Encino, CA

Artist View Entertainment, Inc., Studio City, CA

AV Pictures Ltd, London, United Kingdom

Bleiberg Entertainment, Beverly Hills, CA

Bold Films L.P., Los Angeles, CA

Boll AG, Mainz, Germany

Brainstorm Media, Beverly Hills, CA

Brightlight Pictures Inc., Burnaby, Canada

Cinamour Entertainment, Encino, CA

Cinema Management Group, West Hollywood, CA

Cinesavvy, Inc., Toronto, Canada

CJ Entertainment Inc., Seoul, Republic of (South) Korea

Classic Media, Inc., New York, NY

ContentFilm International, London, United Kingdom

Continental Entertainment Capital, Beverly Hills, CA

DeAPlaneta, Barcelona, Spain

Distribution Workshop, Kowloon Tong, Hong Kong

Ealing Studios International, London, United Kingdom

Echo Bridge Entertainment, Needham, MA

Emperor Motion Pictures, Wanchai, Hong Kong

Epic Pictures Group, Inc., Beverly Hills, CA

Essential Entertainment, Los Angeles, CA

EuropaCorp, Paris, France

Fabrication Films, Los Angeles, CA

Film Department (The), West Hollywood, CA

First California Bank, Los Angeles, CA

Foresight Unlimited, Bel Air, CA

Freemantle Corporation (The), Toronto, Canada

Gaiam Americas, Inc., New York, NY

Gaumont, Neuilly-sur-Seine, France

Golden Network Asia Limited, Kwun Tong, Hong Kong

GreeneStreet Films, New York, NY

HandMade Films International, London, United Kingdom

Hollywood Wizard, Northridge, CA

ICB Entertainment Finance, Glendale, CA

IM Global, Beverly Hills, CA

Imageworks Entertainment International, Inc., Chatsworth, CA

Imagi Studios, Sherman Oaks, CA

Imagination Worldwide, LLC, Beverly Hills, CA

Independent Film Sales, London, United Kingdom

Insight Film Releasing Ltd., Vancouver, Canada

ITN Distribution, Inc., Las Vegas, NV

Intandem Films, London, United Kingdom

K5 International GmbH, Muenchen, Germany

Kimmel International, New York, NY

Koan Inc., Park City, UT

Little Film Company (The), Studio City, CA

Mainline Releasing, Santa Monica, CA

MarVista Entertainment, Los Angeles, CA

Maverick Global, a division of Maverick Entertainment Group, Inc., Deerfield Beach, FL

Media 8 Entertainment, Sherman Oaks, CA

Media Luna Entertainment, Cologne, Germany

Myriad Pictures, Santa Monica, CA

Neoclassics Films Ltd., Culver City, CA

New Films International, Sherman Oaks, CA

New Horizons Picture Corp., Los Angeles, CA

NonStop Sales AB, Stockholm, Sweden

Nordisk Film A/S, Valby, Denmark

Odd Lot International, Culver City, CA

Paramount Vantage International, Los Angeles, CA

Park Entertainment Ltd., London, United Kingdom

Passport International Entertainment, LLC, North Hollywood, CA

Peace Arch Entertainment, Marina Del Rey, CA

QED International, Los Angeles, CA

Quantum Releasing LLC, Burbank, CA

RHI Entertainment Distribution, LLC, New York, NY

Screen Capital International Corp., Beverly Hills, CA

Screen Media Ventures, LLC, New York, NY

SND, Neuilly-sur-Seine, France

Sobini Films, Santa Monica, CA

Spotlight Pictures, LLC, Hollywood, CA

Starz Media, Burbank, CA

Stevens Entertainment Group, Dallas, TX

Tandem Communications, Munich, Germany

Taurus Entertainment Company, Glendale, CA

U.S. Bank, Los Angeles, CA

UFO International Productions, Burbank, CA

UK Film Council, London, United Kingdom

Union Bank of California N.A., Los Angeles, CA

Vision Films, Inc., Sherman Oaks, CA

Voltage Pictures, Los Angeles, CA

Wachovia Bank, Los Angeles, CA

Weinstein Company (The), New York, NY

Wild Bunch, Paris, France

Worldwide Film Entertainment LLC, Los Angeles, CA

Yari Film Group, LLC, Los Angeles, CA

York International, Sherman Oaks, CA

3. Delete the following companies as Members of the Certificate:

Alliance Communications Corporation, Beverly Hills, CA

Alliance Atlantis Communication Corp., Toronto, Canada

Arrow Films International Inc., New York, NY

Artisan Entertainment, Santa Monica, CA

Bank of America NT & SA, Los Angeles, CA

Banque Paribas, Los Angeles, CA

Behaviour Worldwide, Inc., Los Angeles, CA

Beyond Films Ltd., Surry Hills, Australia

Big Bear Licensing Corporation, Inc., Los Angeles, CA

Bonneville Worldwide Entertainment, Encino, CA

British Film Institute, London, United Kingdom

Broadstar Entertainment Corporation, Hollywood, CA

Buena Vista Film Sales, Burbank, CA

Buena Vista Television, A Division of Disney/ABC Int'l TV Inc., Burbank, CA

BV International Pictures AS, Avaldsnes, Norway

Castle Hill Productions, Inc., New York, NY

Cecchi Gori Group, Los Angeles, CA

China Star Entertainment Group, TST, Kowloon, Hong Kong

Cinema Financial Services, Inc., New York, NY

Cinequanon Pictures International, Los Angeles, CA

CLT-UFA, Beverly Hills, CA

Concorde-New Horizons Corporation, Los Angeles, CA

Cori International: Film and Television, Los Angeles, CA

Coutts & Co./Natwest Group, Beverly Hills, CA

Crown Int'l Pictures, Inc., Beverly Hills CA

Discovery Communications, Inc., Bethesda, MD

Dream Entertainment, Beverly Hills, CA (formerly listed as “Dream Entertainment, Los Angeles, CA”)

DZ Bank, London, United Kingdom

Film Roman, Inc., Los Angeles, CA

Filmfour International, London, United Kingdom

Films (Guernsey) Limited

Fleetboston Financial, Boston, MA

Franchise Pictures, Los Angeles, CA

Full Moon Pictures, Hollywood, CA

G.E.L. Productions, Los Angeles, CA

Golden Harvest Entertainment Co., Ltd., Beverly Hills, CA

Good Times Entertainment, Inc., Bel Air, CA

Hamdon Entertainment, Studio City, CA

Han Entertainment, Hong Kong

HBO Enterprises, New York, NY

Hollywood Previews Entertainment, Inc., Santa Monica, CA

Horizon Entertainment, Inc., Vancouver, Canada

IAC Film & Television, London, United Kingdom

Imperial Entertainment Group, Beverly Hills, CA

In-Motion Pictures, Inc., London, United Kingdom

Interlight Pictures, W. Hollywood, CA

Intermedia, London, United Kingdom

Intra Movies SRL, Rome, Italy

J&M Entertainment, Los Angeles, CA

JP Morgan Securities, Inc. Entertainment Industries Group, Los Angeles, CA

Kevin Williams Associates, S.A., Madrid, Spain

King World Productions, Inc., New York, NY

Lewis Horwitz Organization, Los Angeles, CA

Lolafilms, Madrid, Spain

Lumiere International, Los Angeles, CA

Marquee Entertainment Inc., Los Angeles, CA

MCEG Sterling Entertainment, Los Angeles, CA

Melrose Entertainment, Inc., Beverly Hills, CA

MTG Media Properties, Ltd., New York, NY

Natixis Banques Populaires, Los Angeles, CA (formerly listed as “Natexis Bank—BFCE, Los Angeles, CA”)

Noble Productions, Inc., Los Angeles, CA

North American Releasing, Inc., Vancouver, Canada

Oasis Pictures, Los Angeles, CA

October Films International, New York, NY

Overseas Film Group/First Look Pictures, Los Angeles, CA

P.C. Films Corp., Nantucket, MA

P.M. Entertainment, Sunland, CA

Pacific Century Bank, Encino, CA

Pandora Cinema, Santa Monica, CA

Pearson Television International, Los Angeles, CA

Phoenician Entertainment, Sherman Oaks, CA

Playboy Entertainment Group, Inc., Beverly Hills, CA

Powerhouse Entertainment Group, Inc., Beverly Hills, CA

Quadra Entertainment, Beverly Hills, CA

Quixote Productions, Los Angeles, CA

Redwood Communications, Venice, CA

Renaissance Films, Ltd., London, United Kingdom

Republic Bank California N.A., Beverly Hills, CA

Republic Entertainment, Inc., Los Angeles, CA

RKO Pictures, Los Angeles, CA

Rysher Entertainment, Santa Monica, CA

Scanbox International, Inc., Studio City, CA

Seven Arts Entertainment, Hollywood, CA

Shapiro/Glickenhaus Ent., Studio City, CA

Shooting Gallery, The, Beverly Hills, CA

Silicon Valley Bank for the activities of its Entertainment Division, Los Angeles, CA

Silver Star Film Corp., Los Angeles, CA

Sogepaq S.A., Madrid, Spain

Solo Entertainment Group, Inc., Beverly Hills, CA

Spelling Films International, Los Angeles, CA

Splendid Pictures, Inc., Bel Air, CA

Stadtsparkasse Koeln, Entertainment Finance, Cologne, Germany

Starway International, Los Angeles, CA

The Norkat Company Limited, Beverly Hills, CA

Tomorrow Film Corp., Santa Monica, CA

Trident Releasing, Inc., Los Angeles, CA

Trimark Pictures, Santa Monica, CA

Trust Film Sales, Hvidovre, Denmark

TVA Films, A Division of Group TVA, Inc., Montreal, Canada

United Film Distributors, Inc., Los Angeles, CA

Viacom Pictures/Showtime Networks, Universal City, CA

Vine International Pictures, Ltd., Downe, Orpington, United Kingdom

Vision International, Beverly Hills, CA

World Films, Inc, Los Angeles, CA; and

4. Change the name and/or address listing of each of the following current Certificate Members:

Change “Alain Siritzky Productions (ASP), Paris, France” to “Alain Siritzky Productions (ASP), Los Angeles, CA”; “Arclight Films Pty. Ltd., Sydney, Australia” to “Arclight Films Pty. Ltd., Moore Park, Australia”; “Atrium Productions KFT, Rotterdam, The Netherlands” to “Atrium Productions KFT, Budapest, Hungary”; “Cinema Arts Entertainment, Beverly Hills, CA” to “Cinema Arts Entertainment, Los Angeles, CA”; “Comerica Bank-California, Los Angeles, CA” to “Comerica Entertainment Group, Los Angeles CA”; “Crystal Sky Communications, Los Angeles, CA” to “Crystal Sky Worldwide Sales LLC, Los Angeles, CA”; “Distant Horizon Ltd., Surrey, United Kingdom” to “Distant Horizon Ltd., Middlesex, United Kingdom”; “Filmax-SOGEDASA, Barcelona, Spain” to “Filmax International, Barcelona, Spain”; “Green Communications, Burbank, CA” to “Green Communications, Hollywood, CA”; “Initial Entertainment, Los Angeles, CA” to “GK Films, LLC, Santa Monica, CA”; “Keller Entertainment Group, Sherman Oaks, CA” to “Keller Entertainment Group, Inc., Los Angeles, CA”; “Liberty International Entertainment, Inc., Los Angeles, CA” to “Liberation Entertainment, Inc., Los Angeles, CA”; “Lakeshore International, Hollywood, CA” to “Lakeshore Entertainment Group, LLC, Beverly Hills, CA”; “Lions Gate Films International, Los Angeles, CA” to “LIONSGATE, Santa Monica, CA”; “Miramax International, Los Angeles, CA” to “Miramax Films, New York, NY”; “Moonstone Entertainment, Beverly Hills, CA” to “Moonstone Entertainment, Studio City, CA”; “Motion Picture Corporation of America, Santa Monica, CA” to “Motion Picture Corporation of America, Los Angeles, CA”; “New Line Cinema Corporation, Los Angeles, CA” to “New Line Cinema, Burbank, CA”; “North by Northwest Distribution, Spokane, WA” to “North by Northwest Entertainment, Spokane, WA”; “Omega Entertainment Ltd., Los Angeles, CA” to “Omega Entertainment Ltd., Zurich, Switzerland”; “Pathe International, Paris, France” to “Pathe Distribution, Paris, France”; “Promark Entertainment Group, Los Angeles, CA” to “Promark/Zenpix, Sherman Oaks, CA”; “Regent Entertainment, Los Angeles, CA” to “Regent Worldwide Sales LLC, Los Angeles, CA”; “Safir Films, Ltd., Middlesex, United Kingdom” to “Safir Films, Ltd., Harrow, United Kingdom”; “Studiocanal, Boulogne, France” to “StudioCanal, Issy Les Moulineaux, France”; “TF1 International, Boulogne Billancourt Cedex, France” to “TF1 International, Issy Les Moulineaux, France”; “The Works, London, United Kingdom” to “Works International (The), London, United Kingdom”; and “Troma Entertainment, Inc., New York, NY” to “Troma Entertainment, Inc., Long Island City, NY.”

The effective date of the amended certificate is December 1, 2008. A copy of the amended certificate will be kept in the International Trade Administration's Freedom of Information Records Inspection Facility, Room 4001, U.S. Department of Commerce, 14th Street and Constitution Avenue, NW., Washington, DC 20230.

Dated: May 11, 2009.
Jeffrey Anspacher,
Acting Director, Office of Competition and Economic Analysis.

[FR Doc. E9-11459 Filed 5-15-09; 8:45 am]

BILLING CODE 3510-DR-P